DEPARTMENT OF JUSTICE

Notice of Lodging of Consent Decrees Under the Comprehensive Environmental Response, Compensation, and Liability Act

Notice is hereby given that on August 8, 2000 a proposed consent decree in United States v. Zacharias Brothers, a Virginia Partnership, et al., Civil Action No. 3:00CV521, was lodged with the United States District Court for the Eastern District of Virginia.

In this action, the United States sought recovery under Section 107 of CERCLA of in excess of $2.7 million in response costs incurred by the United States in response to the release or threatened release of hazardous substances at the C&R Battery Company, Inc. Superfund Site (“Site”), located in Chesterfield, Virginia. The Consent Decree will resolve the claims against five defendants, Zacharias Brothers, a Virginia Partnership, Edward A. Zacharias, Mary D. Zacharias, William K. Zacharias and Carol K. Zacharias, for the payment, in aggregate, of $160,377.72 to the United States. The Consent Decree contains a covenant not to sue by the United States under Section 107 of CERCLA.

The Department of Justice will receive for a period of thirty (30) days from the date of this publication comments relating to the proposed consent decree. Comments should be addressed to the Assistant Attorney General of the Environment and Natural Resources Division, Department of Justice, Washington, D.C. 20530, and should refer to United States v. Zacharias Brothers, a Virginia Partnership, et el., DOJ Ref. #90-11-2-692/4.

The proposed consent decree may be examined at the Office of the United States Attorney, Eastern Division of Virginia, Richmond Division, 600 E. Main Street, Suite 1800, Richmond, VA 23219; and at U.S. EPA Region III, 1650 Arch Street, Philadelphia, Pennsylvania 19103-2029. A copy of the proposed consent decree may be obtained by mail from the Consent Decree Library, United States Department of Justice, P.O. Box 7611, Washington, DC 20044-7611. In requesting a copy, please enclose a check in the amount of $7.00 (25 cents per page reproduction cost) payable to the Consent Decree Library.

Walker Smith,
Acting Chief, Environmental Enforcement Section, Environmental and Natural Resources Division.

[FR Doc. 00-21285 Filed 8-21-00; 8:45 am]

BILLING CODE 4410-15-M